DEPARTMENT OF ENERGY

Notice of Orders Issued Under Section 3 of the Natural Gas Act During May 2020

| FE Docket Nos.
EMPIRE NATURAL GAS CORPORATION | 20-40-NG
IRVING OIL TERMINALS INC | 20-41-CNG
SEMPRA GAS & POWER MARKETING, LLC | 20-43-NG
IMPERIAL IRRIGATION DISTRICT | 20-44-NG
NATIONAL FUEL RESOURCES, INC | 20-45-NG
MORGAN STANLEY CAPITAL GROUP INC | 20-46-NG
TOURMALINE OIL MARKETING CORP | 20-47-NG
POWER CITY PARTNERS, L.P | 20-48-NG
UNIPER GLOBAL COMMODITIES NORTH AMERICA LLC | 20-50-NG
CAMERON LNG, LLC | 20-14-LNG
SPECTRUM LNG, LLC | 20-33-LNG

AGENCY: Office of Fossil Energy, Department of Energy.

ACTION: Notice of orders.

SUMMARY: The Office of Fossil Energy (FE) of the Department of Energy gives notice that during May 2020, it issued orders granting authority to import and export natural gas, to export liquefied natural gas (LNG), and to import and export compressed natural gas (CNG). These orders are summarized in the attached appendix and may be found on the FE website at https://www.energy.gov/fe/listing-doefe-authorizationsorders-issued-2020. They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on June 23, 2020.
Amy Sweeney,
Director, Office of Regulation, Analysis, and Engagement Office of Oil and Natural Gas.

Appendix

DOE/FE Orders Granting Import/Export Authorizations
4532 | 05/01/20 | 20-40-NG | Empire Natural Gas Corporation | Order 4532 granting blanket authority to import/export natural gas from/to Canada.
4533 | 05/01/20 | 20-41-CNG | Irving Oil Terminals Inc | Order 4533 granting blanket authority to import/export CNG from/to Canada by truck.
4534 | 05/13/20 | 20-43-NG | Sempra Gas & Power Marketing, LLC | Order 4535 granting blanket authority to import/export natural gas from/to Mexico.
4535 | 05/13/20 | 20-44-NG | Imperial Irrigation District | Order 4535 granting blanket authority to import/export natural gas from/to Mexico.
4536 | 05/13/20 | 20-45-NG | National Fuel Resources, Inc | Order 4536 granting blanket authority to import/export natural gas from/to Canada.
4537 | 05/13/20 | 20-46-NG | Morgan Stanley Capital Group Inc | Order 4537 granting blanket authority to import/export natural gas from/to Canada/Mexico.
4538 | 05/15/20 | 20-47-NG | Tourmaline Oil Marketing Corp | Order 4538 granting blanket authority to import natural gas from Canada.
4539 | 05/15/20 | 20-48-NG | Power City Partners, L.P | Order 4539 granting blanket authority to import natural gas from Canada.
4540 | 05/15/20 | 20-50-NG | Uniper Global Commodities North America LLC | Order 4540 granting blanket authority to import/export natural gas from/to Canada.
4541 | 05/27/20 | 20-14-LNG | Cameron LNG, LLC | Order 4541 granting blanket authority to export LNG to Free Trade Agreement Nations, and Non-Free Trade Agreement Nations.
4542 | 05/26/20 | 20-33-LNG | Spectrum LNG, LLC | Order 4542 granting short-term authority for Small-scale exports of LNG to Non-Free Trade Agreement Nations.

[FR Doc. 2020-13826 Filed 6-25-20; 8:45 am]

BILLING CODE 6450-01-P